DEPARTMENT OF ENERGY

10 CFR Parts 429 and 431

[EERE-2017-BT-STD-0048]

RIN 1904-AF27

Energy Conservation Program: Energy Conservation Standards for Dedicated Purpose Pool Pump Motors

Correction

In rule document 2023-20343, appearing on pages 66966 through 67041 in the issue of Thursday, September 28, 2023, make the following correction:

§ 431.482 Materials incorporated by reference. [Corrected]

On page 67041, in the second column, the 26th line from the bottom of the page “following paragraphs of this section:” should read “following paragraphs of this section.”.

[FR Doc. C2-2023-20343 Filed 10-18-23; 8:45 am]

BILLING CODE 0099-10-D